DEPARTMENT OF COMMERCE

National Telecommunications and Information Administration

[Docket No. 110418247-1247-01]

Low-Power Television and Translator Upgrade Program: Notice of Final Closing Date

AGENCY: National Telecommunications and Information Administration (NTIA), U.S. Department of Commerce.

ACTION: Notice of final closing date for receipt of applications and change in census database.

SUMMARY: The National Telecommunications and Information Administration (NTIA) announces that the final Closing Date for receipt of applications for the Low-Power Television and Translator Upgrade Program (Upgrade Program) will be Monday, July 2, 2012. NTIA also announces that it will use population data from the newly available 2010 U.S. Census for applications received after July 1, 2011 in determining whether a facility meets the rurality eligibility requirement of the Upgrade Program. Applications submitted up to and including July 1, 2011, can continue to use the population reported in the 2000 Census. All other requirements for the Upgrade Program remain unchanged as set forth in the Notice of Availability of Funds and Program Guidelines (Upgrade Program NOFA), 74 FR 22402 (May 12, 2009), available at http://www.ntia.doc.gov/lptv/LP-Upgrade-NOFA-FRMay-1209.pdf.

DATES: NTIA will continue to process applications received by the first business day of each month as long as funds are available (Closing Dates), but the last Closing Date will be July 2, 2012. Applicants must ensure that the carrier they use guarantees delivery of the application by 5 p.m., Eastern Time on the Closing Dates. Applications received after any of the monthly Closing Dates will be held until the next grant round. Applicants should note that all material sent via the U.S. Postal Service (including “Overnight” or “Express Mail”) is subject to delivery delays of up to two weeks due to mail security procedures at the Department of Commerce. If an application is received after the Closing Date due to (1) carrier error, when the carrier accepted the package with a guarantee for delivery by the Closing Date and Time, or (2) significant weather delays or natural disasters, NTIA will, upon receipt of proper documentation, consider the application as having been received by the deadline.

ADDRESSES: To submit completed applications or send any other correspondence, write to the Upgrade Program at the following address: NTIA/Upgrade Program, Room H-4812, U.S. Department of Commerce, 1401 Constitution Avenue, NW., Washington, DC 20230. Application materials may be obtained electronically via the Internet at http://www.ntia.doc.gov/lptv. Applications submitted by facsimile will not be accepted. The Upgrade Program application is not available for submission through the Grants.gov Web site.

FOR FURTHER INFORMATION CONTACT: William Cooperman, Upgrade Program Director, Public Broadcasting Division, NTIA Office of Telecommunications and Information Applications, telephone: (202) 482-5802; fax: (202) 482-2156; e-mail: wcooperman@ntia.doc.gov. Information about the Upgrade Program can also be obtained electronically via the Internet at http://www.ntia.doc.gov/lptv.

SUPPLEMENTARY INFORMATION: On May 12, 2009, NTIA published the Upgrade Program NOFA, which established a procedure through which NTIA would process applications received by the first business day of each month as long as funds were available.

Although the Federal Communications Commission has not established a deadline for the conversion of analog low-power television facilities to digital broadcasting,¹ pursuant to Section 3009 of the Digital Television Transition and Public Safety Act of 2005 (the Act), NTIA's authority to make payments for the Upgrade Program expires on September 30, 2012.² Since NTIA must complete payments to Upgrade Program grant recipients by the end of September 2012, NTIA is providing potential applicants with approximately fourteen months advance notice of the final Closing Date.

¹ See Further Notice of Proposed Rulemaking and Memorandum Opinion and Order In the Matter of Amendment of Parts 73 and 74 of the Commission's Rules to Establish Rules for Digital Low Power Television, Television Translator, and Television Booster Stations and to Amend Rules for Digital Class A Television Stations, MB Docket 103-185, FCC 10-172, 25 F.C.C. Rcd. 13833 (rel. Sept. 17, 2010).

² The Digital Television Transition and Public Safety Act of 2005 is Title III of the Deficit Reduction Act of 2005, Public Law 109-171, 120 Stat. 4, 21 (Feb. 8, 2006). Section 2(b) of the DTV Transition Assistance Act, Pub L. 110-295, 122 Stat. 2872 (July 30, 2008), amended section 3009 to clarify the period during which NTIA could make awards for the Upgrade Program.

As of April 2011, NTIA has approximately $32 million available for award as reimbursement grants in the Upgrade Program account. NTIA will process applications received by the first business day of each month and will provide information monthly on the Upgrade Program Internet site regarding the amount of remaining funds available. In order to ensure that NTIA and the Grants Office complete processing of applications and issuing awards by September 30, 2012, NTIA must receive final Upgrade Program applications no later than 5 p.m., Eastern Time, July 2, 2012.

If NTIA or the Grants Office determines that an application submitted for the July 2, 2012, last Closing Date requires additional information, the applicant must provide the requested information within ten business days or NTIA will discontinue processing the application.

NTIA also announces that it will use population data from the newly available 2010 U.S. Census for applications received after July 1, 2011, in determining whether an application meets the statutory requirement to “upgrade low-power television stations from analog to digital in eligible rural communities.” ³ Applications submitted up to and including July 1, 2011, can continue to use the population reported in the 2000 Census to determine station eligibility.

³ The Act at § 3009 (emphasis added). NTIA's interpretation and implementation of this requirement is discussed at length in the Upgrade Program NOFA.

After July 1, 2011, population figures from the 2000 Census will continue to be available on the Upgrade Program Web site, http://www.ntia.doc.gov/lptv/Application/, and may be used as a preliminary guide to determine eligibility. Almost all stations showing an NTIA-calculated population of significantly less than 20,000 using 2000 Census data should continue to be eligible for the Upgrade Program. NTIA will provide 2010 Census population figures for any facility that requests such information. Potential applicants may e-mail a request, which must include the FCC Facility ID number, to: ldyer@ntia.doc.gov. For applications submitted after July 1, 2011, applicants may also use the other methods of determining eligibility discussed in the Upgrade Program NOFA so long as those methods rely on 2010 Census data.

Upgrade Program staff remain available to assist potential applicants in complying with program requirements. All Upgrade Program instructions and forms remain available on the NTIA Internet site at http://www.ntia.doc.gov/lptv.

Dated: April 25, 2011.
Bernadette McGuire-Rivera,
Associate Administrator, Office of Telecommunications and Information Applications.

[FR Doc. 2011-10332 Filed 4-27-11; 8:45 am]

BILLING CODE 3510-60-P